THE NATIONAL FOUNDATION ON THE ARTS AND THE HUMANITIES

Meetings of Humanities Panel

AGENCY: The National Endowment for the Humanities.

ACTION: Notice of meetings.

SUMMARY: Pursuant to the provisions of the Federal Advisory Committee Act (Public Law 92-463, as amended), notice is hereby given that the following meetings of the Humanities Panel will be held at the Old Post Office, 1100 Pennsylvania Avenue, NW., Washington, DC 20506.

FOR FURTHER INFORMATION CONTACT: Daniel Schneider, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of Title 5, United States Code.

1. Date: December 3, 2002.

Time: 8:30 a.m. to 5 p.m.

Room: 315.

Program: This meeting will review applications for Exemplary Education Projects, submitted to the Division of Education at the October 15, 2002 deadline.

2. Date: December 3, 2002.

Time: 8:30 a.m. to 5 p.m.

Room: 415.

Program: This meeting will review applications for Library & Archival Preservation and Access/Reference Materials, submitted to the Division of Preservation and Access at the July 1, 2002 deadline.

3. Date: December 4, 2002.

Time: 8:30 a.m. to 5 p.m.

Room: 415.

Program: This meeting will review applications for Schools for a New Millennium, submitted to the Division of Education at the October 1, 2002 deadline.

4. Date: December 6, 2002.

Time: 8:30 a.m. to 5 p.m.

Room: 426.

Program: This meeting will review applications for Humanities Projects in Museums and Historical Organizations, submitted to the Division of Public Programs at the September 16, 2002 deadline.

5. Date: December 6, 2002.

Time: 8:30 a.m. to 5 p.m.

Room: 415.

Program: This meeting will review applications for Library & Archival Preservation and Access/Reference Materials, submitted to the Division of Preservation and Access at the July 1, 2002 deadline.

6. Date: December 9, 2002.

Time: 8:30 a.m. to 5 p.m.

Room: 315.

Program: This meeting will review applications for Schools for a New Millennium, submitted to the Division of Education at the October 1, 2002 deadline.

7. Date: December 10, 2002.

Time: 8:30 a.m. to 5 p.m.

Room: 315.

Program: This meeting will review applications for Schools for a New Millennium, submitted to the Division of Education at the October 1, 2002 deadline.

8. Date: December 10, 2002.

Time: 8:30 a.m. to 5 p.m.

Room: 415.

Program: This meeting will review applications for Stabilization of Humanities Collections, submitted to the Division of Preservation and Access at the July 1, 2002 deadline.

9. Date: December 11, 2002.

Time: 8:30 a.m. to 5 p.m.

Room: 315.

Program: This meeting will review applications for Exemplary Education Projects, submitted to the Division of Education at the October 15, 2002 deadline.

10. Date: December 12, 2002.

Time: 8:30 a.m. to 5 p.m.

Room: 315.

Program: This meeting will review applications for Exemplary Education Projects, submitted to the Division of Education at the October 15, 2002 deadline.

11. Date: December 13, 2002.

Time: 8:30 a.m. to 5 p.m.

Room: 315.

Program: This meeting will review applications for Library & Archival Preservation and Access/Reference Materials, submitted to the Division of Education at the July 1, 2002 deadline.

12. Date: December 16, 2002.

Time: 8:30 a.m. to 5 p.m.

Room: 315.

Program: This meeting will review applications for Exemplary Education Projects, submitted to the Division of Education at the October 15, 2002 deadline.

Daniel Schneider,
Advisory Committee Management Officer.

[FR Doc. 02-29687 Filed 11-20-02; 8:45 am]

BILLING CODE 7536-01-P